DEPARTMENT OF HEALTH AND HUMAN SERVICES

Food and Drug Administration

21 CFR Parts 510, 520, 522, 524, 528, 529, 556, and 558

[Docket No. FDA-2015-N-0002]

New Animal Drugs; Approval of New Animal Drug Applications; Changes of Sponsorship

AGENCY: Food and Drug Administration, HHS.

ACTION: Final rule; technical amendment.

SUMMARY: The Food and Drug Administration (FDA) is amending the animal drug regulations to reflect application-related actions for new animal drug applications (NADAs) and abbreviated new animal drug applications (ANADAs) during November and December 2015. FDA is also informing the public of the availability of summaries of the basis of approval and of environmental review documents, where applicable. The animal drug regulations are also being amended to reflect changes of sponsorship of applications that occurred in November and December 2015.

DATES: This rule is effective March 30, 2016.

FOR FURTHER INFORMATION CONTACT: George K. Haibel, Center for Veterinary Medicine (HFV-6), Food and Drug Administration, 7519 Standish Pl., Rockville, MD 20855, 240-402-5689, george.haibel@fda.hhs.gov.

SUPPLEMENTARY INFORMATION:

I. Approval Actions

FDA is amending the animal drug regulations to reflect approval actions for NADAs and ANADAs during November and December 2015, as listed in table 1. In addition, FDA is informing the public of the availability, where applicable, of documentation of environmental review required under the National Environmental Policy Act (NEPA) and, for actions requiring review of safety or effectiveness data, summaries of the basis of approval (FOI Summaries) under the Freedom of Information Act (FOIA). These public documents may be seen in the Division of Dockets Management (HFA-305), Food and Drug Administration, 5630 Fishers Lane, Rm. 1061, Rockville, MD 20852, between 9 a.m. and 4 p.m., Monday through Friday. Persons with access to the Internet may obtain these documents at the CVM FOIA Electronic Reading Room: http://www.fda.gov/AboutFDA/CentersOffices/OfficeofFoods/CVM/CVMFOIAElectronicReadingRoom/default.htm. Marketing exclusivity and patent information may be accessed in FDA's publication, Approved Animal Drug Products Online (Green Book) at: http://www.fda.gov/AnimalVeterinary/Products/ApprovedAnimalDrugProducts/default.htm.

Table 1—Original and Supplemental NADAs and ANADAs Approved During November and December 2015
File No. | Sponsor | Product name | Action | 21 CFR Section | FOIA Summary | NEPA Review
141-453 | Alexion Pharmaceuticals, Inc., 33 Hayden Ave., Lexington, MA 02421 | hLAL rDNA construct in SBC LAL-C chickens | Original approval for expression of a human gene for recombinant human lysosomal acid lipase (rhLAL) protein in chicken egg whites | 528.2010 | yes | EA/ FONSI ¹
141-456 | Orion Corp., Orionintie 1, 02200 Espoo, Finland | SILEO (dexmedetomidine oromucosal gel) | Original approval for the treatment of noise aversion in dogs | 529.539 | yes | CE ² ³
141-246 | Intervet, Inc., 556 Morris Ave., Summit, NJ 07901 | AQUAFLOR (florfenicol) Type A medicated article | Supplemental approval of revised representative labeling for Type C medicated feeds; technical amendments revising the expiration of veterinary feed directives (VFDs) and the description of tolerances for fish | 556.283, 558.261 | no | CE ² ⁴
141-258 | Intervet, Inc., 556 Morris Ave., Summit, NJ 07901 | ZILMAX (zilpaterol hydrochloride) Type A medicated article | Supplemental approval of a cattle muscle tolerance and of new determinative and confirmatory procedures for residues of zilpaterol in cattle liver and muscle | 556.765 | yes | CE ² ⁴
141-361 | Elanco Animal Health, A Division of Eli Lilly & Co., Lilly Corporate Center, Indianapolis, IN 46285 | PULMOTIL AC (tilmicosin phosphate) Concentrate Solution | Supplemental approval for the control of swine respiratory disease associated with Mycoplasma hyopneumoniae in the presence of Porcine Reproductive and Respiratory Syndrome Virus (PRRSV) | 520.2471 | yes | EA/ FONSI ¹
¹ The Agency has carefully considered an environmental assessment (EA) of the potential environmental impact of this action and has made a finding of no significant impact (FONSI).
² The Agency has determined that this action is categorically excluded (CE) from the requirement to submit an environmental assessment or an environmental impact statement because it is of a type that does not have a significant effect on the human environment.
³ CE granted under 21 CFR 25.33(d)(1).
⁴ CE granted under 21 CFR 25.33(a)(1).

II. Changes of Sponsorship

Bayer HealthCare LLC, Animal Health Division, P.O. Box 390, Shawnee Mission, KS 66201 (Bayer) has informed FDA that it has transferred ownership of, and all rights and interest in, the following approved applications to Cronus Pharma LLC, 2 Tower Center Blvd., Suite 1101, East Brunswick, NJ 08816:

File No. | Product name | 21 CFR section
055-002 | TEVCOSIN (chloramphenicol) Injectable Solution | 522.390
094-170 | Phenylbutazone Tablets, USP 100 mg and 200 mg | 520.1720a
123-815 | Dexamethasone Sodium Phosphate Injection | 522.540
141-245 | TRIBUTAME (chloroquine phosphate, embutramid, lidocaine) Euthanasia Solution | 522.810
200-178 | Amikacin Sulfate Injection, 50 mg/mL | 522.56
200-193 | Clindamycin Hydrochloride Oral Liquid | 520.447
200-248 | Pyrantel Pamoate Suspension; 2.27 and 4.54 mg | 520.2043
200-265 | Praziquantel Tablets | 520.1870
200-287 | GBC (Gentamicin Sulfate Betamethasone Valerate Clotrimazole) Ointment | 524.1044g
200-297 | Ivermectin Chewable Tablets | 520.1193
200-298 | Clindamycin Hydrochloride Capsules | 520.446
200-365 | ROBINUL-V (glycopyrrolate) Injectable Solution | 522.1066
200-382 | Furosemide Syrup 1% | 520.1010

Bayer has also informed FDA that it has transferred ownership of, and all rights and interest in, approved ANADA 200-342 for Pyrantel Pamoate Paste to Farnam Companies, Inc., 301 West Osborn Rd., Phoenix, AZ 85013-3928.

Boehringer Ingelheim Vetmedica, Inc., 2621 North Belt Hwy., St. Joseph, MO 64506-2002 has informed FDA that it has transferred ownership of, and all rights and interest in, the following approved applications to Huvepharma AD, 5th Floor, 3A Nikolay Haitov Str., 1113 Sofia, Bulgaria:

File No. | Product name | 21 CFR section
006-084 ¹ | SULMET (sulfamethazine) Drinking Water Solution | 520.2261a
008-774 | SULMET (sulfamethazine) Injectable Solution | 522.2260
033-373 ¹ | VETSULID (sulfachlorpyridazine) | 520.2200
040-181 ¹ | VETSULID (sulfachlorpyridazine) Oral Suspension | 520.2200
055-012 ¹ | CHLORONEX SULMET (chlortetracycline bisulfate/sulfamethazine bisulfate) Soluble Powder | 520.445
055-018 ¹ | AUREOMYCIN (chlortetracycline HCl) Tablets 25 mg | 520.443
055-039 ¹ | AUREOMYCIN (chlortetracycline HCl) Soluble Oblets | 520.443
065-071 ¹ | AUREOMYCIN (chlortetracycline HCl) Soluble Powder | 520.441
065-269 ¹ | POLYOTIC (tetracycline hydrochloride) Soluble Powder | 520.2345d
065-440 ¹ | CHLORONEX (chlortetracycline HCl or chlortetracycline bisulfate) Soluble Powder | 520.441
122-271 ¹ | SULMET (sulfamethazine) Oblets | 520.2260a
122-272 ¹ | SULMET (sulfamethazine sodium) Soluble Powder | 520.2261b
¹ These NADAs were identified as being affected by guidance for industry #213, “New Animal Drugs and New Animal Drug Combination Products Administered in or on Medicated Feed or Drinking Water of Food-Producing Animals: Recommendations for Drug Sponsors for Voluntarily Aligning Product Use Conditions with GFI #209,” December 2013.

In addition, Novartis Animal Health US, Inc., 3200 Northline Ave., suite 300, Greensboro, NC 27408 (Novartis) has informed FDA that it has transferred ownership of, and all rights and interest in, the following approved applications to Elanco US, Inc., 2500 Innovation Way, Greenfield, IN 46140.

File No. | Product name
134-644 | DENAGARD (tiamulin) Soluble Powder.
139-472 | DENAGARD (tiamulin) Type B Medicated Feed.
140-915 | INTERCEPTOR (milbemycin oxime) Tablets.
140-916 | DENAGARD (tiamulin) Liquid Concentrate.
141-011 | DENAGARD (tiamulin) plus CTC (chlortetracycline).
141-026 | PROGRAM (lufenuron) Suspension.
141-029 | PERCORTEN-V (desoxycorticosterone pivalate) Injectable Suspension.
141-035 | PROGRAM (lufenuron).
141-062 | PROGRAM (lufenuron) Cat Flavor Tabs.
141-084 | SENTINEL (lufenuron and milbemycin oxime) Flavor Tabs.
141-105 | PROGRAM (lufenuron) 6-Month Injectable for Cats.
141-120 | CLOMICALM (clomipramine) Tablets.
141-163 | MILBEMITE (milbemycin oxime) Otic Solution.
141-175 | CAPSTAR (nitenpyram) Tablets.
141-203 | DERAMAXX (deracoxib) Chewable Tablets.
141-204 | SENTINEL Flavor Tabs and CAPSTAR Flea Management System.
141-205 | PROGRAM Flavor Tabs and CAPSTAR Flea Management System.
141-218 | ATOPICA (cyclosporine) Capsules.
141-320 | ONSIOR (robenacoxib) Tablets.
141-329 | ATOPICA (cyclosporine) Oral Solution for Cats.
141-333 | SENTINEL SPECTRUM (milbemycin oxime, lufenuron, praziquantel) Chewable Tablets.
141-338 | INTERCEPTOR SPECTRUM (milbemycin oxime and praziquantel) Chewable Tablets.
141-437 | OSURNIA (florfenicol, betamethasone acetate, and terbinafine) Otic Gel.
141-443 | ONSIOR (robenacoxib) Injection.
200-517 | ZOBUXA (enrofloxacin) Tablets.
200-519 | FLORVIO (florfenicol) 2.3% Concentrate Solution.

As provided in the regulatory text of this document, the animal drug regulations are amended to reflect these changes of sponsorship. Elanco US, Inc., is retaining Novartis' drug labeler code (058198). Accordingly, the animal drug regulations need only be amended in § 510.600(c) to add Elanco US, Inc., who previously was not the sponsor of an approved application. Cronus Pharma LLC will also be added as a new listing. Following these changes of sponsorship, Novartis is no longer the sponsor of an approved application and will be removed from § 510.600(c).

III. Technical Amendments

FDA has noticed the animal drug regulations in 21 CFR part 556 contain tolerances for residues in edible tissues for sulfathiazole, which is no longer the subject of an approved application (79 FR 15540, March 20, 2014). Accordingly, § 556.690 is being removed. FDA has also noticed that the animal drug regulations in 21 CFR 558.4 (§ 558.4) contain assay limits for ronnel and sulfaethoxypyridazine in medicated feed. As there is no longer an approved application for use of either of these drugs in medicated feed, the table for Category II drugs in § 558.4 is being amended to remove assay limits in medicated feed for both drugs. These actions are being taken to improve the accuracy of the regulations.

In addition, FDA is taking this opportunity to revise the spelling of a bacitracin salt to a preferred form, bacitracin methylenedisalicylate, and to correct the spelling of a genus of pathogenic bacteria, Haemophilus. These actions are being taken to improve the accuracy of the regulations.

This rule does not meet the definition of “rule” in 5 U.S.C. 804(3)(A) because it is a rule of “particular applicability.” Therefore, it is not subject to the congressional review requirements in 5 U.S.C. 801-808.

List of Subjects

21 CFR Part 510

Administrative practice and procedure, Animal drugs, Labeling, Reporting and recordkeeping requirements.

21 CFR Parts 520, 522, 524, 528, and 529

Animal drugs.

21 CFR Part 556

Animal drugs, Foods.

21 CFR Part 558

Animal drugs, Animal feeds.

Therefore, under the Federal Food, Drug, and Cosmetic Act and under authority delegated to the Commissioner of Food and Drugs and redelegated to the Center for Veterinary Medicine, 21 CFR parts 510, 520, 522, 524, 528, 529, 556, and 558 are amended as follows:

PART 510—NEW ANIMAL DRUGS

1. The authority citation for 21 CFR part 510 continues to read as follows:

Authority: 21 U.S.C. 321, 331, 351, 352, 353, 360b, 371, 379e.

§ 510.600 [Amended]

2. In § 510.600, in the table in paragraph (c)(1), remove the entry for “Novartis Animal Health US, Inc.” and add entries for “Cronus Pharma LLC” and “Elanco US, Inc.” in alphabetical order; and in the table in paragraph (c)(2), revise the entry for “058198” and add an entry for “069043” in numerical order to read as follows:

§ 510.600 Names, addresses, and drug labeler codes of sponsors of approved applications.

* * * * *

(c) * * *

(1) * * *

Firm name and address | Drug labeler code
| * * * * * * *
Cronus Pharma LLC, 2 Tower Center Blvd., Suite 1101, East Brunswick, NJ 08816 | 069043
| * * * * * * *
Elanco US, Inc., 2500 Innovation Way, Greenfield, IN 46140 | 058198
| * * * * * * *

(2) * * *

Drug labeler code | Firm name and address
| * * * * * * *
058198 | Elanco US, Inc., 2500 Innovation Way, Greenfield, IN 46140
| * * * * * * *
069043 | Cronus Pharma LLC, 2 Tower Center Blvd., Suite 1101, East Brunswick, NJ 08816
| * * * * * * *

PART 520—ORAL DOSAGE FORM NEW ANIMAL DRUGS

3. The authority citation for 21 CFR part 520 continues to read as follows:

Authority: 21 U.S.C. 360b.

§ 520.88b [Amended]

4. In § 520.88b, in paragraph (b)(1)(ii)(B), remove “Hemophilus” and in its place add “Haemophilus”.

5. In § 520.154b:

a. Revise the section heading.

b. In paragraph (a), remove “methylene disalicylate” and in its place add “methylenedisalicylate”.

The revision reads as follows:

§ 520.154b Bacitracin methylenedisalicylate and streptomycin sulfate powder.

* * * * *

§ 520.441 [Amended]

6. In § 520.441, in paragraphs (b)(2) and (d)(4)(iii)(C), remove “000010” and in its place add “016592”; and in in paragraphs (d)(1)(i)(A)(1), (d)(2)(i)(A)(1), (d)(4)(iii)(B), and (d)(4)(iv)(B), remove “Hemophilus” and in its place add “Haemophilus”.

§ 520.443 [Amended]

7. In § 520.443, in paragraph (b), remove “No. 054628” and in its place add “Nos. 016592 and 054628”; and in paragraphs (d)(1)(i), (d)(2)(i), and (d)(3)(i), remove “Hemophilus” and in its place add “Haemophilus”.

§ 520.445 [Amended]

8. In § 520.445, in paragraph (b), remove “000010” and in its place add “016592”.

§ 520.446 [Amended]

9. In § 520.446, in paragraph (b)(1), remove “No. 054771” and in its place add “Nos. 054771 and 069043”.

§ 520.447 [Amended]

10. In § 520.447, in paragraph (b), remove “Nos. 000859, 051311, 054771, 058829, and 061623” and in its place add “Nos. 051311, 054771, 058829, 061623, and 069043”.

§ 520.823 [Amended]

11. In § 520.823, in paragraph (d)(2)(ii), remove “Hemophilus” and in its place add “Haemophilus”.

§ 520.1010 [Amended]

12. In § 520.1010, in paragraph (b)(3), remove “Nos. 000859 and 058829” and in its place add “Nos. 058829 and 069043”.

§ 520.1193 [Amended]

13. In § 520.1193, in paragraph (b)(2), remove “Nos. 000859 and 051311” and in its place add “Nos. 051311 and 069043”.

§ 520.1720a [Amended]

14. In § 520.1720a, in paragraph (b)(2), remove “Nos. 000859 and 054628” and in its place add “Nos. 054628 and 069043”.

15. In § 520.1870, revise paragraph (b) to read as follows:

§ 520.1870 Praziquantel tablets.

* * * * *

(b) Sponsor. See No. 069043 in § 510.600(c) of this chapter for use of the product described in paragraph (a)(1) of this section as in paragraph (c)(1) of this section; and for use of the product described in paragraph (a)(2) of this section as in paragraph (c)(2) of this section.

* * * * *

§ 520.2043 [Amended]

16. In § 520.2043, in paragraph (b)(1), remove “Nos. 000859, 054771, and 058829” and in its place add “Nos. 054771, 058829, and 069043”.

§ 520.2044 [Amended]

17. In § 520.2044, in paragraph (b)(2), remove “000859” and in its place add “017135”.

§ 520.2200 [Amended]

18. In § 520.2200, in paragraph (b), remove “000010” and in its place add “016592”.

§ 520.2260a [Amended]

19. In § 520.2260a, in paragraph (a)(1), remove “000010” and in its place add “016592”.

§ 520.2261a [Amended]

20. In § 520.2261a, in paragraph (b), remove “000010” and in its place add “016592”.

§ 520.2261b [Amended]

21. In § 520.2261b, in paragraph (b), remove “000010” and in its place add “016592”.

§ 520.2345d [Amended]

22. In § 520.2345d, in paragraphs (b)(5), (d)(1)(iii), and (d)(2)(iii), remove “000010” and in its place add “016592”; and in paragraphs (d)(1)(ii) and (d)(2)(ii), remove “Hemophilus” and in its place add “Haemophilus”.

23. In § 520.2471, revise paragraph (d)(2) to read as follows:

§ 520.2471 Tilmicosin.

* * * * *

(d) * * *

(2) Indications for use—(i) For the control of swine respiratory disease associated with Pasteurella multocida and Haemophilus parasuis in groups of swine in buildings where a respiratory disease outbreak is diagnosed.

(ii) For the control of swine respiratory disease associated with Mycoplasma hyopneumoniae in the presence of Porcine Reproductive and Respiratory Syndrome Virus (PRRSV) in groups of swine in buildings where a respiratory disease outbreak is diagnosed.

* * * * *

PART 522—IMPLANTATION OR INJECTABLE DOSAGE FORM NEW ANIMAL DRUGS

24. The authority citation for 21 CFR part 522 continues to read as follows:

Authority: 21 U.S.C. 360b.

§ 522.56 [Amended]

25. In § 522.56, in paragraph (b), remove “000859” and in its place add “069043”.

§ 522.390 [Amended]

26. In § 522.390, in paragraph (b), remove “Nos. 000859 and 054771” and in its place add “Nos. 054771 and 069043”.

§ 522.540 [Amended]

27. In § 522.540, in paragraph (e)(2), remove “000859” and in its place add “069043”.

§ 522.810 [Amended]

28. In § 522.810, in paragraph (b), remove “000859” and in its place add “069043”.

§ 522.1066 [Amended]

29. In § 522.1066, in paragraph (b), remove “Nos. 000859 and 054771” and in its place add “Nos. 054771 and 069043”.

§ 522.1662a [Amended]

30. In § 520.1662a, in paragraphs (b)(3)(i)(b), (c)(3)(i), (d)(3)(i)(a), (e)(3)(i)(b), (g)(3)(i)(b), and (k)(3)(ii), remove “Hemophilus” and in its place add “Haemophilus”.

§ 522.2260 [Amended]

31. In § 522.2260, in paragraph (b), remove “000010” and in its place add “016592”.

PART 524—OPHTHALMIC AND TOPICAL DOSAGE FORM NEW ANIMAL DRUGS

32. The authority citation for 21 CFR part 524 continues to read as follows:

Authority: 21 U.S.C. 360b.

§ 524.1044g [Amended]

33. In § 522.1044g, in paragraph (b)(3), remove “000859” and in its place add “069043”.

PART 528—NEW ANIMAL DRUGS IN GENETICALLY ENGINEERED ANIMALS

34. The authority citation for 21 CFR part 528 continues to read as follows:

Authority: 21 U.S.C. 360b.

35. Add § 528.2010 to read as follows:

§ 528.2010 Human lysosomal acid lipase recombinant deoxyribonucleic acid construct.

(a) Specifications. A single copy of a human lysosomal acid lipase (hLAL) recombinant deoxyribonucleic acid (rDNA) gene construct located at the SYN LAL-C site in chromosome 6 in a specific, diploid line (SBC LAL-C) of hemizygous and homozygous domestic chickens (Gallus gallus), derived from the lineage progenitor XLL 109.

(b) Sponsor. See No. 069334 in § 510.600 of this chapter.

(c) Conditions of use—(1) Intended use. The gene construct directs the expression of that encoding gene such that recombinant, human lysosomal acid lipase (rhLAL) protein intended for the treatment of human disease is present in SBC LAL-C chicken egg whites.

(2) Limitations. Food or feed from XLL 109 chickens is not permitted in the food or feed supply.

PART 529—CERTAIN OTHER DOSAGE FORM NEW ANIMAL DRUGS

36. The authority citation for 21 CFR part 529 continues to read as follows:

Authority: 21 U.S.C. 360b.

37. Add § 529.539 to read as follows:

§ 529.539 Dexmedetomidine.

(a) Specifications. Each milliliter of gel contains 0.09 milligrams (mg) dexmedetomidine (equivalent to 0.1 mg dexmedetomidine hydrochloride).

(b) Sponsor. See No. 052483 in § 510.600(c) of this chapter.

(c) Conditions of use—(1) Amount. Administer onto the oral mucosa between the dog's cheek and gum at a dose of 125 micrograms per square meter.

(2) Indications for use. For the treatment of noise aversion in dogs.

(3) Limitations. Federal law restricts this drug to use by or on the order of a licensed veterinarian.

PART 556—TOLERANCES FOR RESIDUES OF NEW ANIMAL DRUGS IN FOOD

38. The authority citation for 21 CFR part 556 continues to read as follows:

Authority: 21 U.S.C. 342, 360b, 371.

39. In § 556.70, in paragraph (b), remove “methylene disalicylate” and in its place add “methylenedisalicylate”; and add paragraph (c) to read as follows:

§ 556.70 Bacitracin.

* * * * *

(c) Related conditions of use. See §§ 520.154a, 520.154c, 558.76, and 558.78 of this chapter.

40. In § 556.283, revise paragraphs (b)(3) and (4) to read as follows:

§ 556.283 Florfenicol.

* * * * *

(b) * * *

(3) Freshwater-reared finfish (other than catfish) and salmonids. The tolerance for florfenicol amine (the marker residue) in muscle/skin (the target tissues) is 1 ppm.

(4) Catfish. The tolerance for florfenicol amine (the marker residue) in muscle (the target tissues) is 1 ppm.

* * * * *

§ 556.690 [Removed]

41. Remove § 556.690.

42. In § 556.765, revise paragraph (b)(1)(i) and add paragraphs (b)(1)(ii) and (c) to read as follows:

§ 556.765 Zilpaterol.

* * * * *

(b) * * *

(1) * * *

(i) Liver (the target tissue). The tolerance for zilpaterol (the marker residue) is 12 parts per billion (ppb).

(ii) Muscle. The tolerance for zilpaterol (the marker residue) is 10 ppb.

* * * * *

(c) Related conditions of use. See § 558.665 of this chapter.

PART 558—NEW ANIMAL DRUGS FOR USE IN ANIMAL FEEDS

43. The authority citation for 21 CFR part 558 continues to read as follows:

Authority: 21 U.S.C. 354, 360b, 360ccc, 360ccc-1, 371.

§ 558.4 [Amended]

44. In § 558.4, in paragraph (d), in the “Category I” table, in the “Drug” column, remove “Bacitracin methylene disalicylate” and in its place add ” Bacitracin methylenedisalicylate”; and in the “Category II” table, remove the entries for “Ronnel” and “Sulfaethoxypyridazine”.

§ 558.55 [Amended]

45. In § 558.55, in paragraph (d)(2)(ii), in the “Combination in grams per ton” and “Limitations” columns, remove “methylene disalicylate” and in its place add “methylenedisalicylate”.

§ 558.58 [Amended]

46. In § 558.58, in paragraph (e)(4), in the “Limitations” column, remove “methylene disalicylate” and in its place add “methylenedisalicylate”.

§ 558.68 [Amended]

47. In § 558.68, remove paragraph (e)(3).

48. In § 558.76, remove paragraph (e)(2), redesignate paragraph (e)(3) as paragraph (e)(2), and revise redesignated paragraph (e)(2) to read as follows:

§ 558.76 Bacitracin methylenedisalicylate.

* * * * *

(e) * * *

(2) Bacitracin methylenedisalicylate may also be used in combination with:

(i) Amprolium as in § 558.55.

(ii) Amprolium and ethopabate as in § 558.58.

(iii) Clopidol as in § 558.175.

(iv) Decoquinate as in § 558.195.

(v) Diclazuril as in § 558.198.

(vi) Fenbendazole as in § 588.258.

(vii) Halofuginone hydrobromide as in § 558.265.

(viii) Ivermectin as in § 558.300.

(ix) Lasalocid as in § 558.311.

(x) Monensin as in § 588.355.

(xi) Narasin as in § 558.363.

(xii) Nicarbazin alone and with narasin as in § 558.366.

(xiii) Robenidine as in § 558.515.

(xiv) Salinomycin as in § 558.550.

(xv) Semduramicin as in § 558.555.

(xvi) Zoalene as in § 558.680.

§ 558.128 [Amended]

49. In § 558.128, in paragraph (e)(7)(ii), remove “methylene disalicylate” and in its place add “methylenedisalicylate”.

§ 558.175 [Amended]

50. In § 558.175, in paragraph (d)(2), in the “Combination in grams per ton” and “Limitations” columns, remove “methylene disalicylate” and in its place add “methylenedisalicylate”.

§ 558.195 [Amended]

51. In § 558.195, in paragraph (e)(1)(ii), in the “Combination in grams/ton” and “Limitations” columns, remove “methylene disalicylate” and in its place add “methylenedisalicylate”.

§ 558.198 [Amended]

52. In § 558.198, in paragraphs (d)(1)(ii) and (d)(2)(ii), in the “Combination grams/ton” and “Limitations” columns, remove “methylene disalicylate” and in its place add “methylenedisalicylate”.

§ 558.258 [Amended]

53. In § 588.258, in paragraphs (e)(2)(vi) and (vii), in the “Combination in grams per ton” and “Limitations” columns, remove “methylene disalicylate” and in its place add “methylenedisalicylate”.

54. In § 558.261, redesignate paragraphs (c)(2)(i) and (ii) as paragraphs (c)(2)(ii) and (i), respectively, revise redesignated paragraph (c)(2)(ii), and add paragraph (c)(4) to read as follows:

§ 558.261 Florfenicol.

* * * * *

(c) * * *

(2) * * *

(ii) For fish must not exceed 6 months from the date of issuance.

* * * * *

(4) Type A medicated articles and medicated feeds intended for use in fish shall bear the following: “Not for use in animals intended for breeding purposes. The effects of florfenicol on reproductive performance have not been determined. Toxicity studies in dogs, rats, and mice have associated the use of florfenicol with testicular degeneration and atrophy.”

* * * * *

§ 558.265 [Amended]

55. In § 558.265, in paragraphs (d)(1)(vi) and (d)(2)(ii), remove “methylene disalicylate” and in its place add “methylenedisalicylate”.

§ 558.300 [Amended]

56. In § 558.300, in paragraphs (e)(2) and (3), in the “Combination in g/ton of feed” column, remove “methylene disalicylate” and in its place add “methylenedisalicylate”; and in paragraph (e)(9), in the “Combination in g/ton of feed ” and “Limitations” columns, remove “methylene disalicylate” and in its place add “methylenedisalicylate”.

§ 558.311 [Amended]

57. In § 558.311, in paragraphs (e)(1)(iv) and (x), in the “Limitations” column, remove “methylene disalicylate” and in its place add “methylenedisalicylate”; and in paragraph (e)(1)(xv), in the “Combination in grams per ton” and “Limitations” columns, remove “methylene disalicylate” and in its place add “methylenedisalicylate”.

§ 558.355 [Amended]

58. In § 558.355, in paragraphs (f)(1)(iii)(b), (f)(1)(xxiv), (f)(1)(xxix) introductory text, (f)(1)(xxix)(b), (f)(1)(xxx) introductory text, (f)(1)(xxx)(b), (f)(2)(ii) introductory text, (f)(2)(ii)(b), (f)(2)(iii) introductory text, (f)(2)(iii)(a), (f)(2)(iii)(b), (f)(4)(ii) introductory text, (f)(4)(ii)(b), (f)(4)(iii) introductory text, (f)(4)(iii)(b), (f)(4)(v) introductory text, and (f)(4)(v)(b), remove “methylene disalicylate” and in its place add “methylenedisalicylate”.

§ 558.363 [Amended]

59. In § 558.363, in paragraphs (d)(1)(iv) introductory text, (d)(1)(iv)(B), and (d)(3)(ii), remove “methylene disalicylate” and in its place add “methylenedisalicylate”.

§ 558.366 [Amended]

60. In § 558.366, in paragraph (d), in the “Combination in grams per ton” and “Limitations” columns, remove “methylene disalicylate” wherever it occurs and in its place add “methylenedisalicylate”.

§ 558.450 [Amended]

61. In § 558.450, in paragraph (d)(5)(v), in the “Indications for Use” column, remove “Hemophilus” and in its place add “Haemophilus”.

§ 558.515 [Amended]

62. In § 558.515, in paragraph (d), in the “Combination in grams per ton” and “Limitations” columns, remove “methylene disalicylate” wherever it occurs and in its place add “methylenedisalicylate”.

§ 558.550 [Amended]

63. In § 558.550, in paragraphs (d)(1)(iii)(a), (d)(1)(iii)(c), (d)(1)(vi)(a), (d)(1)(xx)(A), (d)(1)(xx)(C), (d)(1)(xxi)(A), (d)(1)(xxi)(C), (d)(3)(ii) introductory text, (d)(3)(ii)(B), (d)(3)(iii) introductory text, (d)(3)(iii)(B), (d)(3)(v) introductory text, and (d)(3)(v)(B), remove “methylene disalicylate” and in its place add “methylenedisalicylate”; and in paragraph (d)(1)(vi)(c), remove “Bacitracin MD” and in its place add “Bacitracin methylenedisalicylate”.

§ 558.555 [Amended]

64. In § 558.555, in paragraph (d)(2), in the “Combination in grams per ton” and “Limitations” columns, remove “methylene disalicylate” and in its place add “methylenedisalicylate”.

§ 558.680 [Amended]

65. In § 558.680, in paragraphs (d)(1)(ii), (iii), (iv), (vi), (vii), and (viii) in the “Combination in grams per ton” and “Limitations” columns, remove “methylene disalicylate” and in its place add “methylenedisalicylate”; and in paragraph (d)(2)(ii), in the “Combination in grams per ton” column, remove “methylene disalicylate” and in its place add “methylenedisalicylate”.

Dated: March 25, 2016.
Tracey H. Forfa,
Deputy Director, Center for Veterinary Medicine.

[FR Doc. 2016-07135 Filed 3-29-16; 8:45 am]

BILLING CODE 4161-01-P